ENVIRONMENTAL PROTECTION AGENCY

[OW-2004-0013; FRL-7832-3]

Agency Information Collection Activities; Submission to OMB for Review and Approval; Comment Request; EPA Strategic Plan Information on Source Water Assessment and Protection (Renewal), EPA ICR Number 1816.03, OMB Control No. 2040-0197

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on October 31, 2004. Under OMB, regulations, the Agency may continue to conduct or sponsor the collection of information while this submission is pending at OMB. This ICR describes the nature of the information collection and its estimated burden and cost.

DATES: Additional comments may be submitted on or before December 2, 2004.

ADDRESSES: Submit your comments, referencing docket ID number OW-2004-0013, to (1) EPA online using EDOCKET (our preferred method), by e-mail to OW-Docket@epa.gov, or by mail to: EPA Docket Center, Environmental Protection Agency, Water Docket, Mail Code 4101T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Roy Simon, Office of Ground Water and Drinking Water, Mail Code 4606M, Environmental Protection Agency, 1200 Pennsylvania Ave., NW., Washington, DC 20460; telephone number: (202) 564-3868; fax number: (202) 564-3756; e-mail address: simon.roy@epa.gov.

SUPPLEMENTARY INFORMATION: EPA has submitted the following ICR to OMB for review and approval according to the procedures prescribed in 5 CFR 1320.12. On August 18, 2004 (69 FR 51283), EPA sought comments on this ICR pursuant to 5 CFR 1320.8(d). EPA received no comments.

EPA has established a public docket for this ICR under Docket ID No. OW-2004-0013, which is available for public viewing at the Water Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: EPA Strategic Plan Information on Source Water Assessment and Protection (Renewal).

Abstract: Section 1453(a)(3) of the Safe Drinking Water Act requires States to submit to EPA a Source Water Assessment Program within 18 months after issuance of the national guidance on State Source Water Assessment and Protection Programs, which was issued by EPA on August 5, 1997. Upon EPA approval of the programs, States conducted source water assessments of their public water systems. The assessment program is completed relative to the SDWA, because state assessments were required to be completed three and a half years after approval of a State's program. The burden and cost associated with any remaining assessment work has already been calculated under previous ICRs.

The EPA Strategic Plan (2003-2008) includes source water assessment and protection program measures to describe the voluntary source water protection actions taken at the local or regional level, based on the results of completed source water assessments. This information is collected from States to understand, in aggregate, the results of State assessments and the protection actions based on those assessments, and to measure progress toward the Agency's strategic goal that, by 2008, 50% of source water areas for community water systems will achieve minimized risk to public health. (“Minimized risk” is achieved by substantial implementation, as determined by the State, of source water protection actions in a source water protection strategy.) The information is generated under the authority of section 1453 (a)(3) of the Safe Drinking Water Act and being collected under EPA's Office of Water National Program Guidance.

EPA is collecting, on a voluntary basis, data from the States related to the status of assessment completion, the most prevalent and most threatening sources of contamination, overall risk to source waters, and progress toward substantial implementation of prevention strategies for all community water system source water areas. This data is generated under the authority of section 1453(a)(3) of the Safe Drinking Water Act. While implementing source water protection programs is not required under the Act, Drinking Water State Revolving Fund monies under section 1452 of the Safe Drinking Water Act may be used, and are being used, for activities to support these efforts.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 81 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: States, Puerto Rico, and the District of Columbia.

Estimated Number of Respondents: 52.

Frequency of Response: Annually.

Estimated Total Annual Hour Burden: 4,212 hours.

Estimated Total Annualized Cost Burden: $1,278,000, includes $1,122,000 annual capital startup costs, $0 annual O&M costs and $156,000 annual labor costs.

Changes in the Estimates: There is a decrease of 2,604,575 hours in the total estimated burden currently identified in the OMB Inventory of Approved ICR Burdens. This decrease is due to the shifting of efforts toward reporting only on assessment results and voluntary prevention activities, rather than on all the statutory required assessment actions under the previous ICR.

Dated: October 26, 2004.
Joseph A. Sierra,
Acting Director, Collection Strategies Division.

[FR Doc. 04-24418 Filed 11-1-04; 8:45 am]

BILLING CODE 6560-50-P